DEPARTMENT OF STATE

[Public Notice 5972]

Announcement of Meetings of the International Telecommunication Advisory Committee

Summary: This notice announces meetings of the International Telecommunication Advisory committee (ITAC) to prepare advice on U.S. positions on the restructuring of the Radiocommunication Sector of the International Telecommunication Union (ITU-R).

The ITAC will meet as the ITAC-R “National Committee” to prepare advice for the U.S. on the structure and chairs of new ITAC-R study groups, and Chairs for the ITU-R working parties, study groups, etc. on December 20, 2007, at the offices of the Boeing Company, 1200 Wilson Boulevard, Arlington, VA, 10 a.m.-Noon, Eastern Standard Time. Meeting details will be posted on the mailing list itac-r@eblist.state.gov. People desiring to participate on this list may apply to the secretariat at minardje@state.gov.

The meetings are open to the public.

Dated: November 29, 2007.
Anne D. Jillson,
International Communications & Information Policy, Department of State.

[FR Doc. 07-5971 Filed 12-6-07; 8:45 am]

BILLING CODE 4710-07-M